DEPARTMENT OF STATE

Delegation of Authority 250; Further Assignment of Functions Under the Trade Act of 2002 (“Trade Act”) to Other Departments and Agencies of the Executive Branch

AGENCY: Department of State.

ACTION: Further assignment of functions.

SUMMARY: The Trade Act specifically granted the President certain authorities and assigned the President certain functions related to agreements covered by Trade Act provisions. In Executive Order No. 13277, the President assigned certain of these functions to the Secretary of State and provided guidance for performing those functions, including the further assignment of functions to officers of any other department or agency within the Executive Branch. This notice informs the public of the Secretary of State's further assignment of certain functions. This notice does not create any right or benefit, substantive or procedural, enforceable at law or equity by a party against the United States, its departments, agencies, instrumentalities or entities, its officers or employees, or any other person.

DATES: These actions are effective immediately.

Further Assignment of Functions

Pursuant to section 3(b)(ii) of Executive Order No. 13277, the Secretary of State hereby, as set forth below, further assigns certain functions of the Secretary of State under the Order. Departments and agencies shall carry out those functions in a manner that is supportive of agreements subject to the Trade Act.

(a) The functions of the President under section 2102(c)(2) of the Trade Act with respect to establishing consultative mechanisms assigned to the Secretary of State are further assigned to the Secretary of Labor and the United States Trade Representative, and shall be carried out collectively by the Secretary of State, the Secretary of Labor, and the United States Trade Representative.

(b) The functions of the President under section 2102(c)(3) of the Trade Act with respect to establishing consultative mechanisms assigned to the Secretary of State are further assigned to the United States Trade Representative, and shall be carried out jointly by the Secretary of State and the United States Trade Representative. Such consultative mechanisms are those established through trade agreements subject to the Trade Act. This further assignment is without prejudice to the Secretary of State's responsibility for coordinating the operation of such mechanisms and obtaining the advice and assistance of any other agency as necessary and appropriate.

This further assignment of functions shall be published in the Federal Register.

Dated: December 10, 2002.
Colin L. Powell,
Secretary of State, Department of State.

[FR Doc. 02-31849 Filed 12-17-02; 8:45 am]

BILLING CODE 4710-10-P